DEPARTMENT OF ENERGY

Federal Energy Regulatory Commission

[Docket No. RP03-23-000]

Columbia Gas Transmission Corporation; Notice of Tariff Filing

October 21, 2002.

Take notice that on October 15, 2002, Columbia Gas Transmission Corporation (Columbia) tendered for filing as part of its FERC Gas Tariff, Second Revised Volume No. 1, Seventh Revised Sheet No. 280; Ninth Revised Sheet No. 281; Seventh Revised Sheet No. 351; Sixth Revised Sheet No. 355; Second Revised Sheet No. 357; Seventh Revised Sheet No. 575; and Fifth Revised Sheet No. 581, effective November 15, 2002.

Columbia states that the filing is being made to incorporate into its tariff the Commission's recent pronouncements in Tenaska Marketing Ventures v. Northern Border Pipeline Company, 99 FERC ¶ 61,182 (2002), and provide for limited situations in which a replacement shipper's service agreement may be terminated where the associated primary contract (i.e., the releasing shipper's contract) has been terminated.

Columbia states that copies of its filing have been mailed to all firm customers, interruptible customers, and affected state commissions.

Any person desiring to be heard or to protest said filing should file a motion to intervene or a protest with the Federal Energy Regulatory Commission, 888 First Street, NE, Washington, DC 20426, in accordance with Sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659.

Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-27465 Filed 10-28-02; 8:45 am]

BILLING CODE 6717-01-P